DEPARTMENT OF THE INTERIOR

National Park Service

[NPS-WASO-NAGPRA-NPS0037125; PPWOCRADN0-PCU00RP14.R50000]

Notice of Inventory Completion: Haffenreffer Museum of Anthropology, Brown University, Bristol, RI

AGENCY: National Park Service, Interior.

ACTION: Notice.

SUMMARY: In accordance with the Native American Graves Protection and Repatriation Act (NAGPRA), the Haffenreffer Museum of Anthropology, Brown University (Haffenreffer Museum) has completed an inventory of human remains and associated funerary objects and has determined that there is a cultural affiliation between the human remains and associated funerary objects and Indian Tribes or Native Hawaiian organizations in this notice. The human remains and associated funerary objects were removed from an area near Phoenix, AZ, and an unknown geographic location, AZ.

DATES: Repatriation of the human remains and associated funerary objects in this notice may occur on or after January 22, 2024.

ADDRESSES: Thierry Gentis, Brown University, Haffenreffer Museum of Anthropology, 300 Tower Street, Bristol, RI 02889, telephone (401) 863-5702, email thierry_gentis@brown.edu.

SUPPLEMENTARY INFORMATION: This notice is published as part of the National Park Service's administrative responsibilities under NAGPRA. The determinations in this notice are the sole responsibility of the Haffenreffer Museum. The National Park Service is not responsible for the determinations in this notice. Additional information on the determinations in this notice, including the results of consultation, can be found in the inventory or related records held by the Haffenreffer Museum.

Description

Between 1917 and 1935, human remains representing, at minimum, one individual were removed from an area near Phoenix, AZ, during archeological excavations. On an unknown date, the individual became part of Rudolph Haffenreffer's collection. At the time of removal, it was uncertain if this collection included human remains. In 2012, Haffenreffer Museum of Anthropology staff determined that one of the bones is human. The five associated funerary objects are one lot of faunal bone fragments; one Glycymeris shell bracelet; one lot of shell fragments; one lot of Puebloan pottery sherds; and one lot of lithics.

Human remains representing, at minimum, one individual were removed from an unknown geographic location, AZ. On an unknown date, Rudolf Haffenreffer acquired the individual. The two associated funerary objects are one buffware cremation urn and one lot of charcoal.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographic information, archaeological information, and oral tradition.

Determinations

Pursuant to NAGPRA and it's implementing regulations, and after consultation with the appropriate Indian Tribes and Native Hawaiian organizations, the Haffenreffer Museum has determined that:

• The human remains described in this notice represent the physical remains of two individuals of Native American ancestry.

• The seven objects described in this notice are reasonably believed to have been placed with or near individual human remains at the time of death or later as part of the death rite or ceremony.

• There is a relationship of shared group identity that can be reasonably traced between the human remains and associated funerary objects described in this notice and the Ak-Chin Indian Community; Gila River Indian Community of Gila River Indian Reservation, Arizona; Hopi Tribe of Arizona; Salt River Pima-Maricopa Indian Community of the Salt River Reservation, Arizona; Tohono O'Odham Nation of Arizona; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 22, 2024. If competing requests for repatriation are received, the Haffenreffer Museum must determine the most appropriate requestor prior to repatriation. Requests for joint repatriation of the human remains and associated funerary objects are considered a single request and not competing requests. The Haffenreffer Museum is responsible for sending a copy of this notice to the Indian Tribes identified in this notice.

Authority: Native American Graves Protection and Repatriation Act, 25 U.S.C. 3003, and the implementing regulations, 43 CFR 10.9, 10.10, and 10.14.

Dated: December 13, 2023.
Melanie O'Brien,
Manager, National NAGPRA Prog.

[FR Doc. 2023-28180 Filed 12-21-23; 8:45 am]

BILLING CODE 4312-52-P